DEPARTMENT OF ENERGY

Federal Energy Regulatory Commission

[Docket No. RP00-2-003]

Overthrust Pipeline Company; Notice of Tariff Filing

August 1, 2000.

Take notice that on July 28, 2000, Overthrust Pipeline Company (Overthrust) tendered by filing as part of its FERC Gas Tariff, the following tariff sheets, with an effective date of April 1, 2000.

First Revised Volume No. 1-A

Substitute Third Revised Sheet No. 4

Second Substitute Sixth Revised Sheet No. 70

Original Volume No. 1

Substitute Eighteenth Revised Sheet No. 6

Overthrust states that the filing is being made in compliance with Commission's letter order issued July 13, 2000, in Docket No. RP00-2-000.

Overthrust states that on March 24, 2000, it filed an Offer of Settlement (Settlement Agreement) in Docket No. RP00-2-000, to resolve all outstanding issues in the rate case. By letter order issued July 13, 2000, the Commission approved the settlement as a fair and reasonable resolution of the issues in this proceeding.

Further, Overthrust states that one of the major elements of the Settlement Agreement was a continuation of the firm transportation reservation charge and interruptible rate established by settlement in Overthrust's prior rate case proceeding in Docket No. RP97-301. Therefore, no refunds are required.

Overthrust states that a copy of this filing has been served upon Overthrust's customers and the Wyoming Public Service Commission.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-19871 Fled 8-4-00; 8:45am]

BILLING CODE 6717-01-M